DEPARTMENT OF DEFENSE

Office of the Secretary

[Docket ID: DoD-2012-OS-0131]

Privacy Act of 1974; System of Records

AGENCY: Office of the Secretary of Defense, DoD.

ACTION: Notice to add a new System of Records; response to comments.

SUMMARY: The Office of the Secretary of Defense established a new Privacy Act System of Records entitled “Public Affairs Management Information System.” This notice responds to comments received on the Privacy Act Systems of Records Notice.

DATES: Effective Date: November 26, 2012.

FOR FURTHER INFORMATION CONTACT: Mrs. Cindy Allard at (571) 372-0461.

SUPPLEMENTARY INFORMATION: The Privacy Act Systems of Records Notice was published on October 26, 2012, in the Federal Register (77 FR 65370). During the comment period, one public comment was received.

Comment: The commenter noted there was “no mention on how the records will be destroyed” and that it “should be spelled out in writing.”

DoD Response: A specific method of records destruction was not addressed because the scope of many of the OSD/JS systems of records notices is global and specific destruction methodology is frequently not able to be implemented globally (i.e., “burning” is prevalent within the National Capital Region; however, there are many DoD locations that do not have the capability). DoD Manual 5200.01 Volume 4, DoD Information Security Program, Controlled Unclassified Information (CUI) requires that “record copies of FOUO documents shall be disposed of according to provisions of chapter 33 of title 44 U.S.C. and the DoD Component records management directives. Non-record FOUO documents may be destroyed by any of the means approved for the destruction of classified information or by any other means that would make it difficult to recognize or reconstruct the information.”

Dated: January 23, 2013.
Aaron Siegel,
Alternate OSD Federal Register Liaison Officer, Department of Defense.

[FR Doc. 2013-01684 Filed 1-25-13; 8:45 am]

BILLING CODE 5001-06-P